INTERNATIONAL TRADE COMMISSION

[Investigation Nos. 701-TA-458 and 731-TA-1154 (Final)]

Certain Kitchen Appliance Shelving and Racks From China

Determinations

On the basis of the record ¹ developed in the subject investigations, the United States International Trade Commission (Commission) determines,² pursuant to sections 705(b) and 735(b) of the Tariff Act of 1930 (19 U.S.C. 1671d(b) and 1673d(b)) (the Act), that the refrigeration shelving industry in the United States is materially injured and the oven racks industry in the United States is threatened with material injury by reason of imports from China of certain kitchen appliance shelving and racks,3 4 provided for in subheadings 7321.90.50, 7321.90.60, 8418.99.80, and 8516.90.80 of the Harmonized Tariff Schedule of the United States, that have been found by the Department of Commerce (Commerce) to be subsidized by the Government of China and sold in the United States at less than fair value (LTFV). In addition, the Commission determines that it would not have found material injury with regard to imports of oven racks from China but for the suspension of liquidation.

¹ The record is defined in sec. 207.2(f) of the Commission's Rules of Practice and Procedure (19 CFR 207.2(f)).

² Commissioner Deanna Tanner Okun recused herself to avoid any conflict of interest or appearance of a conflict.

³ The Commission finds two domestic industries, one producing refrigeration shelving and one producing oven racks.

⁴ Vice Chairman Daniel R. Pearson, dissenting with regard to imports of certain oven racks from China, finds that the oven racks industry in the United States is neither materially injured nor threatened with material injury by reason of imports from China.

Background

The Commission instituted these investigations effective July 31, 2008, following receipt of a petition filed with the Commission and Commerce by Nashville Wire Products Inc., Nashville, TN, SSW Holding Company, Inc., Elizabethtown, KY, the United Steel, Paper and Forestry, Rubber, Manufacturing, Energy, Allied-Industrial and Service Workers International Union, and the International Association of Machinists and Aerospace Workers, District Lodge 6, Clinton, IA. The final phase of the investigations was scheduled by the Commission following notification of preliminary determinations by Commerce that imports of certain kitchen appliance shelving and racks from China were being subsidized within the meaning of section 703(b) of the Act (19 U.S.C. 1671b(b)) and being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of April 21, 2009 (74 FR 18249). The hearing was held in Washington, DC, on July 16, 2009, and all persons who requested the opportunity were permitted to appear in person or by counsel.

The Commission transmitted its determinations in these investigations to the Secretary of Commerce on September 2, 2009. The views of the Commission are contained in USITC Publication 4098 (August 2009), entitled Certain Kitchen Appliance Shelving and Racks From China: Investigation Nos. 701-TA-458 and 731-TA-1154 (Final).

Issued: September 2, 2009.
By order of the Commission.
Marilyn R. Abbott,
Secretary to the Commission.

[FR Doc. E9-21692 Filed 9-8-09; 8:45 am]

BILLING CODE 7020-02-P